NUCLEAR REGULATORY COMMISSION

[Docket No. 50-247]

License No. DPR-26; Consolidated Edison Company of New York, Inc.; Receipt of Petition for Director's Decision Under 10 CFR 2.206

Notice is hereby given that by Petition dated December 4, 2000, Deborah Katz, Marilyn Elie, Tim Judson, Kyle Rabin, Mark Jacobs, Paul Gunter, and Jim Riccio (petitioners) have requested that the Nuclear Regulatory Commission (NRC) take the following six actions with regard to Indian Point Nuclear Generating Unit No. 2 (IP2): (1) Suspend the license for the IP2 reactor because of the licensee's “persistent and pervasive, negligent management of the reactor,” (2) investigate whether the potential misrepresentation of material fact by the utility regarding “significantly insufficient” engineering calculations was due to a lack of rigor and thoroughness or was deliberate, (3) revoke the IP2 operating license if it is found that the licensee deliberately provided insufficient and false information, (4) if the license is not revoked, maintain IP2 on the “list of agency's focus reactors” until management demonstrates it can fulfill its regulatory requirements and commitments, (5) not approve the transfer of the IP2 license until management can demonstrate that the Updated Final Safety Analysis Report (UFSAR), the condition report backlog, and the maintenance requirements are up-to-date and workers have been retrained, and (6) not allow the IP2 reactor to restart until the fundamental breakdown in management is analyzed and corrected.

As a basis for this request, the petitioners state that the NRC inspections and other plant performance measurement processes have uncovered serious weaknesses and inaccuracies in the UFSAR, the Technical Specifications, the design and licensing bases, communications, maintenance, procedures, and worker training which, in the aggregate, point to a systemic mismanagement problem. The petitioners further state that without solid evidence that the licensee has addressed the root causes of systemic mismanagement, brought the reactor within compliance with its licensing and design bases, and established that the material condition of safety-significant reactor components is within safe limits, the licensee is no more prepared to operate IP2 than it was before the two recent operating events.

The Petition has been accepted for review pursuant to 10 CFR 2.206 of the Commission's regulations, and has been referred to the Director of the Office of Nuclear Reactor Regulation (NRR). In accordance with Section 2.206, appropriate action will be taken on this Petition within a reasonable time. The NRR Petition Review Board (PRB) met on December 20, 2000, to consider Requested Action 6, that the NRC prevent the IP2 reactor from restarting. The PRB recommended that the request be denied, and the Director denied it. The Director denied Requested Action 6 because the Petitioners' bases for prohibiting IP2's restart had been previously evaluated individually and in aggregate by the NRC for regulatory and safety significance. The Director found that the issues did not warrant prohibiting the restart of IP2. The petitioners Deborah Katz, Tim Judson, Kyle Rabin, Mark Jacobs, Paul Gunter, and Jim Riccio met with the NRR PRB on January 24, 2001, to discuss the Petition. The results of that discussion were considered in the board's determination regarding the schedule for the review of the Petition. The Petition and the NRC's acknowledgment letter are available in ADAMS for inspection at the Commission's Public Document Room, located at One White Flint North, 11555 Rockville Pike (first floor), Rockville, Maryland, and from the ADAMS Public Library component on the NRC's Web site, http://www.nrc.gov (the Public Electronic Reading Room) at accession nos. ML010580302 and ML010510218, respectively. Information regarding this Petition can also be found on the Indian Point Unit 2 Event page on the NRC's Web site, http://www.nrc.gov/NRC/REACTOR/IP/index.html

Dated at Rockville, Maryland this 9th day of March 2001.
For the Nuclear Regulatory Commission.
Samuel J. Collins,
Director, Office of Nuclear Reactor Regulation.

[FR Doc. 01-6619 Filed 3-15-01; 8:45 am]

BILLING CODE 7590-01-P